DEPARTMENT OF HOUSING AND URBAN DEVELOPMENT

[Docket No. FR-5282-N-02]

Notice of Proposed Information Collection for Public Comment: Homelessness Prevention and Rapid Re-Housing Program (HPRP) Quarterly and Annual Performance Reporting

AGENCY: Office of the Assistant Secretary for Community Planning and Development, U.S. Department of Housing and Urban Development (HUD).

ACTION: Notice of proposed information collection.

SUMMARY: The proposed information collection requirement described below will be submitted to the Office of Management and Budget (OMB) for review, as required by the Paperwork Reduction Act. The Department is soliciting public comments on the subject proposal.

DATES: Comments Due Date: September 22, 2009.

ADDRESSES: Interested persons are invited to submit comments regarding this proposal. Comments should refer to the proposal by name or OMB Control number and should be sent to: Lillian L. Deitzer, Departmental Reports Management Officer, QDAM, Department of Housing and Urban Development, 451 7th Street, SW., Room 4178, Washington, DC 20410-5000; telephone (202) 402-8048 (this is not a toll-free number) or e-mail Ms. Deitzer at Lillian.L.Deitzer@hud.gov for a copy of the proposed forms, or other available information.

FOR FURTHER INFORMATION CONTACT: Ann Marie Oliva, Director, Office of Special Needs Assistance Programs, CPD, Department of Housing and Urban Development, 451 7th Street, SW., Room 7262, Washington, DC 20410; telephone (202) 402-4497 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Homelessness Prevention and Rapid Re-Housing Program (HPRP) Quarterly and Annual Performance Reporting.

Description of the need for the information and proposed use: This information collection, as required by the American Reinvestment and Recovery Act (ARRA) of 2009, will enable HUD to monitor grantees that receive funding through the Homelessness Prevention and Rapid Re-Housing Program (HPRP) as well as report aggregate data to HUD staff, other Federal agencies, the Congress, the Office of Management and Budget, and the public.

Members of affected public: Grantess and subrecipients for the Homelessness Prevention and Rapid Re-Housing Program (HPRP).

Estimation of the total number of hours needed to prepare the information collection including number of respondents, frequency of response, and hours of response: (540 respondents × 4 quarterly reports/year × 3,157 minutes per report = 113,652 hours per annum) + (240 respondents × 1 annual report × 16,380 minutes per report = 147,420 hours per annum).

The total burden is 261,072 hours per annum.

Status of the proposed information collection: Revision of currently approved package 2506-0186.

Authority: Section 3506 of the Paperwork Reduction Act of 1995, 44 U.S.C. Chapter 35, as amended.

Dated: July 13, 2009.
William H. Eargle,
Deputy Assistant Secretary for Community Planning and Development.

[FR Doc. E9-17327 Filed 7-23-09; 8:45 am]

BILLING CODE 4210-67-P